DEPARTMENT OF THE INTERIOR

National Park Service

[NPS-NERO-GETT-20397; PPMPSPD1Z.YM0000] [PPNEGETTS1]

Request for Nominations for the Gettysburg National Military Park Advisory Commission

AGENCY: National Park Service, Interior.

ACTION: Request for nominations.

SUMMARY: The National Park Service (NPS), U.S. Department of the Interior, proposed to appoint new member to the Gettysburg National Military Park Advisory Commission (Commission). The NPS is requesting nominations for qualified persons to serve as members of the Commission.

DATES: Written nominations must be received by April 25, 2016.

ADDRESSES: Nominations or requests for further information should be sent to Catherine Lawhon, Management Assistant, Gettysburg National Military Park/Eisenhower National Historic Site, 1195 Baltimore Pike, Suite 100, Gettysburg, Pennsylvania, 17325, telephone at (717) 338-4402.

FOR FURTHER INFORMATION CONTACT: Catherine Lawhon, Management Assistant, Gettysburg National Military Park/Eisenhower National Historic Site, 1195 Baltimore Pike, Suite 100, Gettysburg, Pennsylvania, 17325, telephone at (717) 338-4402, email katie_lawhon@nps.gov.

SUPPLEMENTARY INFORMATION: The Commission was established by Public Law 101-377 (16 U.S.C. 430g-8), to advise the Secretary of the Interior on the coordination of the management of the Gettysburg National Military Park and Gettysburg Battlefield Historic District with local governmental jurisdictions.

The Commission is composed of 11 members, 10 of whom are appointed by the Secretary of the Interior, as follows: (a) One member representing each of the four townships surrounding the park (Cumberland, Mount Joy, Mount Pleasant, Straban Townships) and the Borough of Gettysburg; (b) one member representing the Adams County, Pennsylvania government; (c) one member representing the Pennsylvania State Historic Preservation Office; (d) two members who are residents of Adams County and are knowledgeable about the park and its resources, one of whom owns land or interests in land within the park boundary; and (e) one member with expertise in local historic preservation. The Director of the National Park Service or a designee, is an ex officio, non-voting member.

Each member shall be appointed for a term of three years. A member may serve after the expiration of that member's term until a successor has taken office. The Chairperson of the Commission shall be elected by the members.

We are currently seeking members representing Mount Joy Township, Straban Township, and the State Historic Preservation Office of the Commonwealth of Pennsylvania.

Nominations should be typed and should include a resume providing an adequate description of the nominee's qualifications, including information that would enable the Department of the Interior to make an informed decision regarding meeting the membership requirements of the Commission and permit the Department of the Interior to contact a potential member.

Members of the Commission serve without compensation. However, while away from their homes or regular places of business in the performance of services for the Commission as approved by the Designated Federal Officer, members may be allowed travel expenses, including per diem in lieu of subsistence, in the same manner as persons employed intermittently in Government service are allowed such expenses under Section 5703 of Title 5 of the United States Code.

Individuals who are Federally registered lobbyists are ineligible to serve on all FACA and non-FACA boards, committees, councils in an individual capacity. The term “individual capacity” refers to individuals who are appointed to exercise their own individual best judgment on behalf of the government, such as when they are designated Special Government Employees, rather than being appointed to represent a particular interest.

Dated: March 15, 2016.
Alma Ripps,
Chief, Office of Policy.

[FR Doc. 2016-06843 Filed 3-24-16; 8:45 am]

BILLING CODE 4310-EE-P